DEPARTMENT OF THE TREASURY

Community Development Financial Institutions Fund

Funding Opportunity Title: Change of Notice of Funds Availability (NOFA) inviting applications for the FY 2007 Funding Round of the Community Development Financial Institutions (CDFI) Program.

Announcement Type: Change of certain dates and application submission information in the announcement of funding opportunity published on August 28, 2006.

Catalog of Federal Domestic Assistance (CFDA) Number: 21.020.

Change of Application Deadlines: On August 28, 2006, the Community Development Financial Institutions Fund (the Fund) published the NOFA for the FY 2007 funding round of the CDFI Program (71 FR 50983). This notice announces the correction of two dates set forth in the NOFA:

(i) Section II.E (Matching Funds), subsection 2(b) of the NOFA (71 FR 50987) states: “A Category II/Core Applicant must demonstrate that it has eligible matching funds equal to no less than 100 percent of the amount of the FA award requested in-hand or firmly committed, on or after January 5, 2006 and on or before the application deadline.” The correct date is January 1, 2005, not January 5, 2006.

(ii) Section II.E (Matching Funds), subsection 5 of the NOFA (71 FR 50988) states: “In the case of item (i) of this paragraph, the Applicant must demonstrate that it has eligible matching funds equal to no less than 25 percent of the amount of the FA award requested in-hand or firmly committed, on or after January 1, 2006 and on or before the application deadline.” The correct date is January 1, 2005, not January 1, 2006.

Change in Application and Submission Information: Section IV (Application and Submission Information), subsections A and B of the NOFA are incorrect. This notice replaces said subsections with the following language:

A. Form of Application Submission: Applicants may submit applications under this NOFA either (i) Through Grants.gov or (ii) in paper form. Applications sent by facsimile or other form will not be accepted.

B. Grants.gov: In compliance with Public Law 106-107 and Section 5(a) of the Federal Financial Assistance Management Improvement Act, the Fund is required to accept applications submitted through the Grants.gov electronic system. The Fund has posted to its Web site, at http://www.cdfifund.gov, instructions for accessing and submitting an application through Grants.gov. Applicants are encouraged to start the registration process now at http://www.Grants.gov as the process may take several weeks to fully complete. See the following link for information on getting started on Grants.gov: http://grants.gov/assets/GrantsgovCoBrandBrochure8X11.pdf.

All other information and requirements set forth in the August 28, 2006 NOFA for the FY 2007 Fund Round of the CDFI Program shall remain effective, as published.

Agency Contacts: The Fund will respond to questions and provide support concerning the NOFA and the funding application between the hours of 9 a.m. and 5 p.m. ET, starting the date of the publication of the NOFA through November 10, 2006. The Fund will not respond to questions or provide support concerning the application that are received after 5 p.m. ET on said dates, until after the respective funding application deadline. Applications and other information regarding the Fund and its programs may be obtained from the Fund's Web site at http://www.cdfifund.gov. The Fund will post on its Web site responses to questions of general applicability regarding the CDFI Program.

A. Information Technology Support: Technical support can be obtained by calling (202) 622-2455 or by e-mail at ithelpdesk@cdfi.treas.gov. People who have visual or mobility impairments that prevent them from creating an Investment Area map using the Fund's Web site should call (202) 622-2455 for assistance. These are not toll free numbers.

B. Programmatic Support: If you have any questions about the programmatic requirements of the NOFA, contact the Fund's Program office by e-mail at cdfihelp@cdfi.treas.gov, by telephone at (202) 622-6355, by facsimile at (202) 622-7754, or by mail at CDFI Fund, 601 13th Street, NW., Suite 200 South, Washington, DC 20005. These are not toll-free numbers.

C. Grants Management Support: If you have any questions regarding the administrative requirements of the NOFA, including questions regarding submission requirements, contact the Fund's Grants Manager by e-mail at grantsmanagement@cdfi.treas.gov, by telephone at (202) 622-8226, by facsimile at (202) 622-6453, or by mail at CDFI Fund, 601 13th Street, NW., Suite 200 South, Washington, DC 20005. These are not toll free numbers.

D. Compliance and Monitoring Support: If you have any questions regarding the compliance requirements of the NOFA, including questions regarding performance on prior awards, contact the Fund's Compliance Manager by e-mail at cme@cdfi.treas.gov, by telephone at (202) 622-8226, by facsimile at (202) 622-6453, or by mail at CDFI Fund, 601 13th Street, NW., Suite 200 South, Washington, DC 20005. These are not toll free numbers.

E. Legal Counsel Support: If you have any questions or matters that you believe require response by the Fund's Office of Legal Counsel, please refer to the document titled “How to Request a Legal Review,” found on the Fund's Web site at http://www.cdfifund.gov. Further, if you wish to review the Assistance Agreement form document from a prior funding round, you may find it posted on the Fund's Web site (please note that there may be revisions to the Assistance Agreement that will be used for Awardees under the NOFA and thus the sample document on the Fund's Web site is provided for illustrative purposes only and should not be relied on for purposes of the NOFA).

Information Sessions and Outreach: The Fund may conduct Information Sessions to disseminate information to organizations contemplating applying to, and other organizations interested in learning about, the Fund's programs. For further information on the Fund's Information Sessions, dates and locations, or to register to attend an Information Session, please visit the Fund's Web site at http://www.cdfifund.gov or call the Fund at (202) 622-9046.

Authority: 12 U.S.C. 4703, 4703 note, 4704, 4706, 4707, 4717; 12 CFR part 1805.

Dated: August 31, 2006.
Arthur A. Garcia,
Director, Community Development Financial Institutions Fund.

[FR Doc. 06-7474 Filed 8-31-06; 4:12 pm]

BILLING CODE 4810-70-M